FEDERAL RESERVE SYSTEM

Notice of Proposals to Engage in Permissible Nonbanking Activities or to Acquire Companies that are Engaged in Permissible Nonbanking Activities; Correction

This notice corrects a notice (FR Doc. E8-4013) published on page 11419 of the issue for Monday, March 3, 2008.

Under the Federal Reserve Bank of Richmond, the entry for Bank of America Corporation, Charlotte, North Carolins, is revised to read as follows:

A. Federal Reserve Bank of Richmond (A. Linwood Gill, III, Vice President) 701 East Byrd Street, Richmond, Virginia 23261-4528:

1. Bank of America Corporation, Charlotte, North Carolina; to acquire Countrywide Financial Corporation, Calabasas, California, and thereby indirectly acquire Countrywide Bank, FSB, Alexandria, Virginia, Countrywide Home Loans, Inc., Calabasas, California, Countrywide Financial Corporation, Calabasas, California, Countrywide Financial Holding Company, Inc., Calabasas, California, Effinity Financial Corporation, Alexandria, Virginia, Countrywide Tax Services Corporation, Simi Valley, California, CTC Real Estate Services, Calabasas, California, Countrywide Servicing Exchange, Calabasas, California, Countrywide Asset Management Corp., Calabasas, California, Landsafe Appraisal Services, Inc., Plano, Texas, Landsafe Credit, Inc., Richardson, Texas, Landsafe Flood Determination, Inc., Richardson, Texas, Landsafe Title of California, Inc., Rosemead, California, Landsafe Title of Texas, Inc., Rosemead, California, Landsafe Title of Florida, Inc., Calabasas, California, Countrywide Warehouse Lending, Calabasas, California, Countrywide Home Loans Servicing LP, Plano, Texas, Countrywide Mortgage Ventures, LLC, Calabasas, California, Countrywide Commercial Real Estate Finance, Inc., Calabasas, California, The Countrywide Foundation, Calabasas, California, Recontrust Company, National Association, Thousand Oaks, California, CWB Community Assets, Inc., Thousand Oaks, California, Countrywide Commercial Administration LLC, Calabasas, California, Recontrust Company (Nevada) Thousand Oaks, California, Countrywide KB Home Loans, LLC, Thousand Oaks, California, CWB Mortgage Ventures, LLC, Thousand Oaks, California, Landsafe Services of Alabama, Inc., Rosemead, California, Landsafe Title of Maryland, Inc., Calabasas, California and thereby engage in (1) operating a savings association; (2) operating a nondepository trust company; (3) community development activities; (4) extending credit and servicing loans; (5) real estate and personal property appraising; (6) credit bureau services; (7) asset management, servicing, and collection activities; (8) acquiring debt in default; and (9) providing tax services for residential mortgage transaction pursuant to sections 225.28(b)(1), 225.28(b)(2), 225.28(b)(4), 225.28(b)(5), 225.28(b)(6) and 225.28(b)(12) of Regulation Y.

In connection with this proposal Bank of America Corporation, has applied to acquire from Bank of America, National Association, Charlotte, North Carolina, 20,000 shares of Series B Non-Voting Convertible Preferred Stock of Countrywide Financial Corporation, Calabasas, California, which is convertible at the option of the holder into approximately 15.7 percent of the voting common stock of Countrywide Financial Corporation.

Comments on this application must be received by April 29, 2008.

Board of Governors of the Federal Reserve System, March 31, 2008.
Robert deV. Frierson,
Deputy Secretary of the Board.

[FR Doc. E8-6924 Filed 4-2-08; 8:45 am]

BILLING CODE 6210-01-S